DEPARTMENT OF TRANSPORTATION

Federal Aviation Administration

14 CFR Part 97

[Docket No. 31175; Amdt. No. 3783]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 26, 2018. The compliance date for each SIAP, associated Takeoff Minimums, and ODP is specified in the amendatory provisions.

The incorporation by reference of certain publications listed in the regulations is approved by the Director of the Federal Register as of January 26, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on January 12, 2018.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 1 March 2018

Salmon, ID, Lemhi County, RNAV (GPS)-D, Amdt 2

Yakima, WA, Yakima Air Terminal/McAllister Field, RNAV (GPS) W RWY 27, Amdt 1B

Yakima, WA, Yakima Air Terminal/McAllister Field, RNAV (GPS) X RWY 27, Amdt 1D

Yakima, WA, Yakima Air Terminal/McAllister Field, RNAV (RNP) Y RWY 27, Orig-C

Yakima, WA, Yakima Air Terminal/McAllister Field, RNAV (RNP) Z RWY 27, Orig-C

Watertown, WI, Watertown Muni, NDB RWY 5, Amdt 1E

Effective 29 March 2018

Cordova, AK, Merle K (Mudhole) Smith, ILS OR LOC RWY 27, Amdt 11C

Cordova, AK, Merle K (Mudhole) Smith, Takeoff Minimums and Obstacle DP, Amdt 8

Little Rock, AR, Bill and Hillary Clinton National/Adams Field, ILS OR LOC RWY 4L, Amdt 26A

Little Rock, AR, Bill and Hillary Clinton National/Adams Field, ILS OR LOC RWY 4R, Amdt 2D

Little Rock, AR, Bill and Hillary Clinton National/Adams Field, ILS OR LOC RWY 22L, Orig-D

Little Rock, AR, Bill and Hillary Clinton National/Adams Field, RNAV (GPS) RWY 36, Orig-C

Little Rock, AR, Bill and Hillary Clinton National/Adams Field, Takeoff Minimums and Obstacle DP, Amdt 9

Bishop, CA, Bishop, Takeoff Minimums and Obstacle DP, Amdt 4A

Oxnard, CA, Oxnard, ILS OR LOC RWY 25, Amdt 13C

Santa Barbara, CA, Santa Barbara Muni, Takeoff Minimums and Obstacle DP, Amdt 8A

Cortez, CO, Cortez Muni, RNAV (GPS) RWY 3, Orig-A

Washington, DC, Ronald Reagan Washington National, ILS OR LOC RWY 1, ILS RWY 1 (SA CAT I), ILS RWY 1 (CAT II), Amdt 41C

Washington, DC, Ronald Reagan Washington National, LDA Y RWY 19, Amdt 1A

Washington, DC, Ronald Reagan Washington National, RNAV (GPS) RWY 33, Amdt 1A

Washington, DC, Ronald Reagan Washington National, RNAV (RNP) RWY 19, Amdt 2B

Washington, DC, Ronald Reagan Washington National, Takeoff Minimums and Obstacle DP, Amdt 8A

Middletown, DE, Summit, Takeoff Minimums and Obstacle DP, Amdt 2A

Apalachicola, FL, Apalachicola Rgnl-Cleve Randolph Field, NDB RWY 14, Amdt 2C

Perry, FL, Perry-Foley, Takeoff Minimums and Obstacle DP, Amdt 1A

St Petersburg-Clearwater, FL, St Pete-Clearwater Intl, Takeoff Minimums and Obstacle DP, Amdt 3B

Tampa, FL, Tampa Intl, ILS OR LOC RWY 19L, ILS RWY 19L (SA CAT I), ILS RWY 19L (CAT II), Amdt 40D

St Marys, GA, St Marys, RNAV (GPS) RWY 4, Orig, CANCELED

St Marys, GA, St Marys, RNAV (GPS) RWY 13, Amdt 1, CANCELED

St Marys, GA, St Marys, RNAV (GPS) RWY 31, Amdt 1A, CANCELED

St Marys, GA, St Marys, Takeoff Minimums and Obstacle DP, Amdt 4, CANCELED

Valdosta, GA, Valdosta Rgnl, RNAV (GPS) RWY 4, Amdt 1C

Valdosta, GA, Valdosta Rgnl, RNAV (GPS) RWY 17, Amdt 2B

Decorah, IA, Decorah Muni, RNAV (GPS) RWY 29, Orig-B

Decorah, IA, Decorah Muni, VOR RWY 29, Amdt 3E

Ottumwa, IA, Ottumwa Rgnl, RNAV (GPS) RWY 13, Orig-B

Chicago, IL, Chicago Midway Intl, RNAV (GPS) RWY 4L, Orig-D

Chicago, IL, Chicago Midway Intl, RNAV (GPS) RWY 13L, Orig-E

Chicago, IL, Chicago Midway Intl, RNAV (GPS) RWY 31R, Orig-E

Chicago, IL, Chicago Midway Intl, RNAV (GPS) Z RWY 4R, Amdt 3D

Chicago, IL, Chicago O'Hare Intl, ILS OR LOC RWY 15, Amdt 30D, CANCELED

Chicago, IL, Chicago O'Hare Intl, ILS OR LOC RWY 28L, ILS RWY 28L (SA CAT I), ILS RWY 28L (CAT II), ILS RWY 28L (CAT III), Orig-A

Chicago, IL, Chicago O'Hare Intl, ILS Y OR LOC Y RWY 10R, Orig-B

Chicago, IL, Chicago O'Hare Intl, ILS PRM Y RWY 10R, (CLOSE PARALLEL), Orig-B

Chicago, IL, Chicago O'Hare Intl, ILS Z OR LOC Z RWY 10R, ILS Z RWY 10R (SA CAT I), ILS Z RWY 10R (CAT II), ILS Z RWY 10R (CAT III), Orig-A

Chicago, IL, Chicago O'Hare Intl, RNAV (GPS) RWY 15, Amdt 2E, CANCELED

Chicago, IL, Chicago O'Hare Intl, Takeoff Minimums and Obstacle DP, Amdt 20C

Chicago/Lake in The Hills, IL, Lake in The Hills, RNAV (GPS) RWY 26, Orig-A

Chicago/Romeoville, IL, Lewis University, LOC RWY 2, Amdt 1A

Chicago/Romeoville, IL, Lewis University, LOC/DME RWY 9, Amdt 1A

Chicago/Romeoville, IL, Lewis University, RNAV (GPS) RWY 2, Amdt 2A

Chicago/West Chicago, IL, Dupage, ILS OR LOC RWY 2L, Amdt 2E

Chicago/West Chicago, IL, Dupage, ILS OR LOC RWY 10, Amdt 8D

Chicago/West Chicago, IL, Dupage, RNAV (GPS) RWY 2L, Orig-E

Chicago/West Chicago, IL, Dupage, RNAV (GPS) RWY 20L, Orig-D

Galesburg, IL, Galesburg Muni, RNAV (GPS) RWY 21, Orig-B

Galesburg, IL, Galesburg Muni, VOR RWY 21, Amdt 7B

Moline, IL, Quad City Intl, ILS OR LOC RWY 9, Amdt 31C

Moline, IL, Quad City Intl, ILS OR LOC RWY 27, Amdt 2B

Moline, IL, Quad City Intl, RNAV (GPS) RWY 9, Amdt 1D

Moline, IL, Quad City Intl, RNAV (GPS) RWY 13, Amdt 1C

Moline, IL, Quad City Intl, RNAV (GPS) RWY 27, Amdt 1D

Moline, IL, Quad City Intl, RNAV (GPS) RWY 31, Amdt 1C

Indianapolis, IN, Indianapolis Intl, ILS OR LOC RWY 23R, ILS RWY 23R (SA CAT I), ILS RWY 23R (SA CAT II), Amdt 6

Boston, MA, General Edward Lawrence Logan Intl, RNAV (GPS) RWY 4L, Orig-A, SUSPENDED

Cambridge, MD, Cambridge-Dorchester Rgnl, NDB RWY 34, Amdt 8, CANCELED

Cambridge, MD, Cambridge-Dorchester Rgnl, RNAV (GPS) RWY 34, Amdt 1

Alma, MI, Gratiot Community, VOR RWY 18, Amdt 1B

Battle Creek, MI, W K Kellogg, RNAV (GPS) RWY 23R, Amdt 1C

Charlotte, MI, Fitch H Beach, RNAV (GPS) RWY 21, Amdt 1A

Detroit, MI, Coleman A Young Muni, VOR RWY 33, Amdt 28B, CANCELED

East Tawas, MI, Iosco County, VOR-A, Amdt 8, CANCELED

Gladwin, MI, Gladwin Zettel Memorial, RNAV (GPS) RWY 27, Orig-B

Grand Rapids, MI, Gerald R Ford Intl, RNAV (GPS) RWY 26L, Amdt 1C

Ionia, MI, Ionia County, VOR-A, Amdt 1, CANCELED

Mason, MI, Mason Jewett Field, VOR-A, Amdt 5, CANCELED

Duluth, MN, Duluth Intl, COPTER ILS OR LOC RWY 27, Amdt 2B

Duluth, MN, Duluth Intl, ILS OR LOC RWY 9, ILS RWY 9 (SA CAT I), ILS RWY 9 (CAT II), Amdt 22B

Duluth, MN, Duluth Intl, ILS OR LOC RWY 27, Amdt 10C

Moorhead, MN, Moorhead Muni, RNAV (GPS) RWY 30, Amdt 1C

St Louis, MO, St Louis Lambert Intl, ILS OR LOC RWY 12L, ILS RWY 12L (CAT II), ILS RWY 12L (CAT III), Amdt 6C

St Louis, MO, St Louis Lambert Intl, ILS OR LOC RWY 12R, Amdt 22C

St Louis, MO, St Louis Lambert Intl, ILS OR LOC RWY 30L, Amdt 12C

St Louis, MO, St Louis Lambert Intl, ILS OR LOC RWY 30R, ILS RWY 30R (CAT II), ILS RWY 30R (CAT III), Amdt 11A

St Louis, MO, St Louis Lambert Intl, RNAV (GPS) Y RWY 12L, Amdt 2D

St Louis, MO, St Louis Lambert Intl, RNAV (GPS) Y RWY 12R, Amdt 1D

St Louis, MO, St Louis Lambert Intl, RNAV (GPS) Y RWY 30L, Amdt 1D

St Louis, MO, St Louis Lambert Intl, RNAV (GPS) Y RWY 30R, Amdt 2A

St Louis, MO, St Louis Lambert Intl, RNAV (RNP) Z RWY 12L, Orig-C

St Louis, MO, St Louis Lambert Intl, RNAV (RNP) Z RWY 12R, Orig-C

St Louis, MO, St Louis Lambert Intl, RNAV (RNP) Z RWY 30L, Orig-C

St Louis, MO, St Louis Lambert Intl, RNAV (RNP) Z RWY 30R, Orig-C

Shelby, MT, Shelby, NDB RWY 23, Amdt 7A, CANCELED

Gwinner, ND, Gwinner-Roger Melroe Field, RNAV (GPS) RWY 34, Amdt 4A

Belen, NM, Alexander Muni, Takeoff Minimums and Obstacle DP, Amdt 1A

Hudson, NY, Columbia County, RNAV (GPS) RWY 21, Amdt 1

Watertown, NY, Watertown Intl, ILS OR LOC RWY 7, Amdt 8

Dayton, OH, James M Cox Dayton Intl, ILS OR LOC RWY 18, Amdt 10A

Dayton, OH, James M Cox Dayton Intl, ILS OR LOC RWY 24L, Amdt 10A

Dayton, OH, James M Cox Dayton Intl, ILS OR LOC RWY 24R, Amdt 10A

Chandler, OK, Chandler Muni, NDB RWY 35, Amdt 1A, CANCELED

Perkasie, PA, Pennridge, RNAV (GPS) RWY 8, Amdt 1C

Aiken, SC, Aiken Rgnl, Takeoff Minimums and Obstacle DP, Amdt 1A

Aberdeen, SD, Aberdeen Rgnl, RNAV (GPS) RWY 13, Amdt 1

Fort Hood/Killeen, TX, Robert Gray AAF, NDB RWY 15, Amdt 6A, CANCELED

Fort Hood/Killeen, TX, Robert Gray AAF, RADAR-2, Orig-A

Fort Worth, TX, Fort Worth Alliance, ILS OR LOC RWY 16L, ILS RWY 16L (CAT II), ILS RWY 16L (CAT III), Amdt 7

Fort Worth, TX, Fort Worth Alliance, ILS OR LOC RWY 34R, Amdt 7

Fort Worth, TX, Fort Worth Alliance, RNAV (GPS) RWY 16L, Amdt 2

Fort Worth, TX, Fort Worth Alliance, RNAV (GPS) RWY 34R, Amdt 3

Fort Worth, TX, Fort Worth Alliance, Takeoff Minimums and Obstacle DP, Amdt 2

Abingdon, VA, Virginia Highlands, VOR/DME-B, Amdt 6, CANCELED

Richlands, VA, Tazewell County, LOC/DME RWY 25, Amdt 1B

Boscobel, WI, Boscobel, RNAV (GPS) RWY 7, Orig-A

Mineral Point, WI, Iowa County, NDB RWY 22, Amdt 6A, CANCELED

Bluefield, WV, Mercer County, ILS OR LOC RWY 23, Amdt 15C

Bluefield, WV, Mercer County, VOR RWY 23, Amdt 5C

Pineville, WV, Kee Field, RNAV (GPS) RWY 8, Orig-C

Pineville, WV, Kee Field, RNAV (GPS) RWY 26, Orig-C

[FR Doc. 2018-01170 Filed 1-25-18; 8:45 am]

BILLING CODE 4910-13-P